ENVIRONMENTAL PROTECTION AGENCY

[ER-FRL-9012-6]

Environmental Impact Statements; Notice of Availability

Responsible Agency: Office of Federal Activities, General Information (202) 564-7146 or http://www.epa.gov/compliance/nepa/.

Weekly Receipt of Environmental Impact Statements

Filed 12/09/2013 Through 12/13/2013

Pursuant to 40 CFR 1506.9

Notice

Section 309(a) of the Clean Air Act requires that EPA make public its comments on EISs issued by other Federal agencies. EPA's comment letters on EISs are available at: http://www.epa.gov/compliance/nepa/eisdata.html

EIS No. 20130367, Draft Supplement, USFS, MT, Miller West Fisher Project, Comment Period Ends: 02/03/2014, Contact: Leslie McDougall 406-295-7431.

EIS No. 20130368, Draft Supplement, NRC, MS, Generic—License Renewal of Nuclear Plants Supplement 50, Regarding Grand Gulf Nuclear Station, Unit 1, Comment Period Ends: 02/11/2014, Contact: David Drucker 301-415-6223.

EIS No. 20130369, Final EIS, FHWA, NV, Pyramid Way and McCarran Boulevard Intersection Improvement Project and Record of Decision, Contact: Abdalla Abdelmoez 775-687-1231. Under MAP-21 Section 1319, FHWA has issued a single FEIS and ROD. Therefore, the 30-day wait/review period under NEPA does not apply to this action.

EIS No. 20130370, Revised Draft EIS, USFS, AZ, Coconino National Forest Land and Resource Management Plan, Comment Period Ends: 03/20/2014, Contact: Vernon Keller 928-527-3415.

EIS No. 20130371, Final EIS, NMFS, 00, American Lobster Fishery Effort Control Measures, Review Period Ends: 01/21/2014, Contact: Peter Burns 978-281-9144.

EIS No. 20130372, Draft EIS, USFS, CO, Cumbres Vegetation Management Project, Comment Period Ends: 02/03/2014, Contact: Diana McGinn 719-852-6241.

EIS No. 20130373, Draft Supplement, RUS, ND, Antelope Valley Station to Neset Transmission Project, Comment Period Ends: 02/03/2014, Contact: Dennis Rankin 202-720-1953.

EIS No. 20130374, Draft EIS, BLM, UT, Monument Butte Oil and Gas Development Project, Comment Period Ends: 02/04/2014, Contact: Stephanie Howard 435-781-4469.

Amended Notices

EIS No. 20130261, Draft Supplement, NPS, CA, Golden Gate National Recreation Area Draft Dog Management Plan, Comment Period Ends: 02/18/2014, Contact: Michael B. Edwards 303-969-2694. Revision to FR Notice Published 11/01/2013; Extending Comment Period to from 01/11/2014 to 02/18/2014.

EIS No. 20130360, Final EIS, USFS, AZ, Rosemont Copper Project, Proposed Mining Operation, Review Period Ends: 02/14/2014, Contact: Mindy Vogel 520-388-8300. Revision to FR Notice Published 11/01/2013; Extending Comment Period to from 01/11/2014 to 02/18/2014.

Dated: December 17, 2013.
Cliff Rader,
Director, NEPA Compliance Division, Office of Federal Activities.

[FR Doc. 2013-30349 Filed 12-19-13; 8:45 am]

BILLING CODE 6560-50-P